DEPARTMENT OF TRANSPORTATION

Office of the Secretary

Application of Republic Airline, Inc. d/b/a Republic Airlines for Issuance of New Certificate Authority

AGENCY: Department of Transportation.

ACTION: Notice of Order to Show Cause (Order 2003-10-6), Docket OST-2003-14579.

SUMMARY: The Department of Transportation is directing all interested persons to show cause why it should not issue an order (1) finding Republic Airline, Inc. d/b/a Republic Airlines fit, willing, and able, and (2) awarding it certificate to engage in interstate scheduled air transportation of persons, property, and mail, using small aircraft, subject to limitations and conditions.

DATES: Persons wishing to file objections should do so no later than October 20, 2003.

ADDRESSES: Objections and answers to objections should be filed in Docket OST-2003-14579 and addressed to Department of Transportation Dockets (M-30, Room PL-401), U.S. Department of Transportation, 400 Seventh Street, SW., Washington, DC 20590 and should be served upon the parties listed in Attachment A to the order.

FOR FURTHER INFORMATION CONTACT: Ms. Janet A. Davis, Air Carrier Fitness Division (X-56, Room 6401), U.S. Department of Transportation, 400 Seventh Street, SW., Washington, DC 20590, (202) 366-9721.

Dated: October 6, 2003.
Michael W. Reynolds,
Acting Assistant Secretary for Aviation and International Affairs.

[FR Doc. 03-25897 Filed 10-10-03; 8:45 am]

BILLING CODE 4910-62-P